DEPARTMENT OF HEALTH AND HUMAN SERVICES

Centers for Disease Control and Prevention

Advisory Committee on Immunization Practices: Meeting

Correction: This notice was published in the Federal Register on December 8, 2006, Volume 71, Number 236, page 71175-71176. The matters to be discussed have changed.

Matters To Be Discussed: The agenda will include discussions on influenza vaccine; immunization safety; update on use of rotavirus vaccine; update on use of HPV vaccine; update on use of herpes zoster (shingles) vaccine; vaccine supply; Japanese encephalitis and other flavivirus vaccines (e.g., yellow fever vaccine); diphtheria, tetanus, pertussis, polio, Haemophilus B [Hib] combination vaccine (Pentacel®); evidence-based recommendations; and agency updates. Vaccine for Children votes will be on hepatitis A post exposure prophylaxis, influenza and Pentacel. Agenda items are subject to change as priorities dictate.

For Further Information Contact: Demetria Gardner, Immunization Services Division, National Center for Immunization and Respiratory Diseases, CDC, 1600 Clifton Road, NE., (E-05), Atlanta, Georgia 30333, telephone 404/639-8836, fax 404/639-6258.

The Director, Management Analysis and Services Office, has been delegated the authority to sign Federal Register notices pertaining to announcements of meetings and other committee management activities for both the CDC and ATSDR.

Elaine L. Baker,
Acting Director, Management Analysis and Services Office, Centers for Disease Control and Prevention.

[FR Doc. E7-1490 Filed 1-30-07; 8:45 am]

BILLING CODE 4163-18-P